DEPARTMENT OF COMMERCE

International Trade Administration

[A-557-816]

Certain Steel Nails From Malaysia: Final Results of Antidumping Duty Administrative Review; 2019-2020

AGENCY: Enforcement and Compliance, International Trade Administration, Department of Commerce.

SUMMARY: The Department of Commerce (Commerce) determines that certain steel nails from Malaysia were not sold at less than normal value during the period of review (POR), July 1, 2019, through June 30, 2020.

DATES: Applicable February 2, 2022.

FOR FURTHER INFORMATION CONTACT: Preston Cox, AD/CVD Operations, Office VI, Enforcement and Compliance, International Trade Administration, U.S. Department of Commerce, 1401 Constitution Avenue NW, Washington, DC 20230; telephone: (202) 482-5041.

SUPPLEMENTARY INFORMATION:

Background

On August 3, 2021, Commerce published the Preliminary Results of the 2019-2020 administrative review of the antidumping duty order on certain steel nails from Malaysia.¹ We invited interested parties to comment on the Preliminary Results.² On November 22, 2021, we extended the deadline for these final results until January 28, 2022.³ This review covers one mandatory respondent: Region.⁴ The producers/exporters not selected for individual examination are listed in the “Final Results of the Administrative Review” section of this notice. For a complete description of the events that followed the Preliminary Results, see the Issues and Decision Memorandum.⁵ Commerce conducted this administrative review in accordance with section 751 of the Tariff Act of 1930, as amended (the Act).

¹ See Certain Steel Nails from Malaysia: Preliminary Results and Partial Rescission of Antidumping Duty Administrative Review; 2019-2020, 86 FR 41813 (August 3, 2021) (Preliminary Results), and accompanying Preliminary Decision Memorandum (PDM).

² See Preliminary Results, 86 FR at 41814.

³ See Memorandum, “Certain Steel Nails from Malaysia: Extension of Deadline for Final Results of Antidumping Duty Administrative Review; 2019-2020,” dated November 22, 2021.

⁴ Commerce continues to treat affiliates Region International Co. Ltd. and Region System Sdn. Bhd. (collectively, Region) as a collapsed single entity for the final results of this review. See Preliminary Results PDM at 5-6.

⁵ See Memorandum, “Decision Memorandum for the Final Results of the 2019-2020 Administrative Review of the Antidumping Duty Order on Certain Steel Nails from Malaysia,” dated concurrently with, and hereby adopted by, this notice (Issues and Decision Memorandum).

Scope of the Order

The products covered by the scope of the order are certain steel nails from Malaysia. For a complete description of the scope of this administrative review, see the Issues and Decision Memorandum.⁶

⁶ See Issues and Decision Memorandum at 2-4.

Analysis of Comments Received

All issues raised in the case and rebuttal briefs filed by interested parties in this review are discussed in the Issues and Decision Memorandum. The Issues and Decision Memorandum is a public document and is made available to the public via Enforcement and Compliance's Antidumping and Countervailing Duty Centralized Electronic Service System (ACCESS). ACCESS is available to registered users at https://access.trade.gov. In addition, a complete version of the Issues and Decision Memorandum can be found at https://access.trade.gov/public/FRNoticesListLayout.aspx. A list of the topics included in the Issues and Decision Memorandum is attached as an appendix to this notice.

Changes Since the Preliminary Results

Based on the comments received from interested parties regarding our Preliminary Results, and for the reasons explained in the Issues and Decision memorandum, we made no changes to the margin calculation methodology used in the Preliminary Results; however, we have changed the margin for these final results of review, as discussed in the Issues and Decision Memorandum.

Rates for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.

For these final results, we have calculated a weighted-average dumping margin for Region that is zero or de minimis, and we have not calculated any margins which are not zero, de minimis, or determined entirely on the basis of facts available. Accordingly, we have assigned to the companies not individually examined a margin of zero percent.

Final Results of the Administrative Review

We determine that the following estimated weighted-average dumping margins exist for the period July 1, 2019, through June 30, 2020:

Producer/exporter | Estimated weighted- average dumping margin (percent)
Region International Co., Ltd. and Region System Sdn. Bhd | 0.00
Inmax Sdn. Bhd. and Inmax Industries Sdn. Bhd⁷ | 0.00
Tag Fasteners Sdn. Bhd | 0.00

Disclosure of Calculations

⁷ Commerce continues to treat Inmax Sdn. Bhd. and Inmax Industries Sdn. Bhd. as a collapsed single entity for the final results of this review. See Preliminary Results, 86 FR at 41814.

Normally, Commerce discloses to the parties in a proceeding the calculations performed in connection with the final results of review in accordance with 19 CFR 351.224(b). However, because Commerce made no adjustments to the margin calculation methodology used in the Preliminary Results, there are no calculations to disclose for the final results of review.

Assessment Rates

Pursuant to section 751(a)(2)(C) of the Act, and 19 CFR 351.212(b)(1), Commerce has determined, and U.S. Customs and Border Protection (CBP) shall assess, antidumping duties on all appropriate entries of subject merchandise in accordance with the final results of this review. Because we calculated a margin for Region which is zero or de minimis in the final results of this review, we intend to instruct CBP to liquidate the appropriate entries without regard to antidumping duties. For the companies identified above that were not selected for individual examination, we will instruct CBP to liquidate entries at the rates established in these final results of review.

For entries of subject merchandise during the period of review produced by any of these companies for which it did not know its merchandise was destined for the United States, we will instruct CBP to liquidate such entries at the all-others rate if there is no rate for the intermediate company(ies) involved in the transaction.⁸

⁸ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

Cash Deposit Requirements

The following cash deposit requirements will be effective upon publication in the Federal Register of the notice of these final results for all shipments of the subject merchandise entered, or withdrawn from warehouse, for consumption on or after the publication date, as provided by section 751(a)(2) of the Act: (1) The cash deposit rate for companies subject to this review will be equal to the company-specific weighted-average dumping margin established in the final results of the review; (2) for merchandise exported by producers or exporters not covered in this review but covered in a prior segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other producers or exporters will continue to be 2.66 percent, the all-others rate established in the less-than-fair-value investigation.⁹ These cash deposit requirements, when imposed, shall remain in effect until further notice.

⁹ See Certain Steel Nails from Malaysia: Amended Final Determination of Sales at Less Than Fair Value, 80 FR 34370 (June 16, 2015).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

This notice is issued and published in accordance with sections 751(a)(1) and 777(i)(1) of the Act, and 19 CFR 351.221.

Dated: January 26, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Application of Adverse Facts Available

Comment 2: Clerical Error

Comment 3: Correction to Draft Liquidation Instructions

VI. Recommendation

[FR Doc. 2022-02103 Filed 2-1-22; 8:45 am]

BILLING CODE 3510-DS-P